OFFICE OF PERSONNEL MANAGEMENT

Science and Technology (S&T) Reinvention Laboratory Personnel Demonstration Project, Department of the Army, Aviation Research, Development, and Engineering Center (AVRDEC) and Missile Research, Development, and Engineering Center (MRDEC)

AGENCY: Office of Personnel Management (OPM).

ACTION: Notice of amendment of the AVRDEC and MRDEC demonstration project plans to merge the two separate demonstrations into one project. The resulting project is designated the S&T Reinvention Laboratory Personnel Demonstration Project at the U.S. Army Aviation & Missile Research, Development, and Engineering Center (AMCOM RDEC).

SUMMARY: 5 U.S.C. 4703 authorizes OPM to conduct demonstration projects that experiment with new and different personnel management concepts to determine whether such changes in policy or procedures will result in improved Federal personnel management.

Public Law 103-337, October 5, 1994, permits the Department of Defense (DOD), with the approval of OPM, to carry out personnel demonstration projects at S&T Reinvention Laboratories. Pursuant to 5 CFR 470.315, this notice amends the AVRDEC and the MRDEC projects to merge the separate demonstrations into one project.

Both demonstration projects were approved on June 27, 1997 and implemented on September 28, 1997. The formation of the Army Aviation and Missile Command (AMCOM), a directed BRAC 95 action, took place on October 11, 1997. This BRAC action placed both demonstration projects under the organizational control of AMCOM. The demonstration organizations (MRDEC and AVRDEC) were not merged at the formation of AMCOM to avoid excessive personnel turbulence and to ensure continued customer support during the BRAC transitions.

However, Army planning included the eventual merger of the MRDEC and AVRDEC after several years of operation. For this reason, the Federal Register notice for both AVRDEC and MRDEC included the statement that “Successor organizations which may result from actions associated with the 1995 Base Realignment and Closure Commission (BRAC) or future Commissions will continue coverage in the demonstration project.” Headquarters, U.S. Army Materiel Command Permanent Orders 063-1, dated March 4, 1999, redesignated and reorganized the MRDEC as the AMCOM RDEC, discontinued the AVRDEC, and merged the AVRDEC with the AMCOM RDEC.

DATES: This amendment to the AVRDEC and MRDEC demonstration projects may be implemented beginning on the date of August 31, 2000.

FOR FURTHER INFORMATION CONTACT:

AVRDEC: Mr. David Knepper, Aviation Research, Development, and Engineering Center, U.S. Army Aviation and Missile Command, ATTN: AMSAM-RD, Redstone Arsenal, Alabama 35898-5000, phone 256-876-1522.

MRDEC: Ms. Lana Hargrove, Missile Research, Development, and Engineering Center, U.S. Army Aviation and Missile Command, ATTN: AMSAM-RD, Redstone Arsenal, Alabama 35898-5000, phone 256-955-6734.

OPM: Mr. Gary Hacker, U.S. Office of Personnel Management, 1900 E Street NW, Room 7458, Washington, DC 20415, phone 202-606-2820.

SUPPLEMENTARY INFORMATION:

1. Background

OPM approved and published the final plans in the Federal Register for the following S&T Reinvention Laboratory Demonstration Projects:

A. MRDEC final publication on Friday, June 27, 1997, Volume 62, Number 124, Part IV, page 34876.

B. AVRDEC final publication on Friday, June 27, 1997, Volume 62, Number 124, Part V, page 34905.

C. AVRDEC correction to the definition of competitive area and publication on Monday, March 8, 1999, Volume 64, Number 44, page 11074.

D. Publication of an amendment to include competitive examining and Distinguished Scholastic Achievement Appointment authorities as part of the AVRDEC and the MRDEC plans. Published in the Federal Register on Thursday, March 11, 1999, Volume 64, Number 47, page 12216.

The AVRDEC and the MRDEC demonstration projects involve simplified job classification, pay banding, a performance-based compensation system, employee development provisions, and modified reduction-in-force procedures.

2. Overview

This action is in response to a reorganization directed by the U.S. Army Materiel Command that re-designates the MRDEC as the U.S. Army Aviation & Missile Research, Development, and Engineering Center (AMCOM RDEC) effective October 1, 2000, and merges the AVRDEC with the newly established AMCOM RDEC.

Dated: August 24, 2000.
Office of Personnel Management.
Janice R. Lachance,
Director.

I. Executive Summary

The Department of the Army designed the personnel demonstration projects to be generally similar to the system in use at the Navy personnel demonstration known as China Lake. The projects and this amendment are built upon the concepts of linking performance to pay for all covered positions; simplifying the paperwork in the processing of classification and other personnel actions; emphasizing partnerships among management, employees, and the union; and delegating authorities to line managers.

The projects are beneficial to both the AVRDEC and the MRDEC and will be continued. This conforms with the provision on successorship in the Federal Register, June 27, 1997, Volume 62, Number 124, at page 34881, section IIE, and at page 34909, section IID, that states, “Successor organizations which may result from actions associated with the 1995 Base Realignment and Closure Commission (BRAC) or future Commissions will continue coverage in the demonstration project.” The consolidation re-designating the MRDEC and merging the AVRDEC with the new AMCOM RDEC results from 1995 BRAC actions.

II. Introduction

The personnel demonstration at the merged AMCOM RDEC laboratory will provide its managers the authority, control, and flexibility to achieve a quality laboratory and quality products. The successor project will allow the AMCOM RDEC to compete more effectively for high-quality personnel and strengthen the manager's role in personnel management.

Basic provisions are unchanged from each of the approved demonstration projects. Except as described in section III that follows, provisions of the MRDEC plan will be followed for the consolidated AMCOM RDEC project.

Employee notification will be made by delivery of a copy of this notice. Training for supervisors and employees will be accomplished along with implementation.

III. Specific Provisions

A. Participating Organization

The AMCOM RDEC will have approximately 1,953 employees covered by the project, approximately 1,502 from the MRDEC and approximately 451 from the AVRDEC. The majority of the employees are located at Redstone Arsenal, Alabama, with the remaining employees located at Fort Rucker, Alabama; Mesa, Arizona; Moffett Field, California; Eglin Air Force Base, Florida; Orlando, Florida; Andover, Massachusetts; Dallas, Texas; Fort Bliss, Texas; Fort Hood, Texas; Fort Eustis, Virginia; Hampton, Virginia; and Washington, DC.

B. Occupational Series by Occupational Family

The AVRDEC has the following occupational series that will be added to those in Appendix A of the MRDEC final plan pursuant to the merged project.

Engineers & Scientists

0180 Psychologist Series (Engineering Research Psychologist, Engineering Psychologist)

0801 General Engineer (Human Factors Engineer)

Technical and Business Support

0018 Safety & Occupational Health Management

0510 Accounting

0905 General Attorney

1035 Public Affairs

1060 Photography

1071 Audio Visual Production

1084 Visual Information

1103 Industrial Property Management Specialist

1601 General Facilities & Equipment

2181 Aircraft Operation

General Support

0525 Accounting Technician

1105 Purchasing

2102 Transportation Clerk and Assistant

C. Labor Participation

Former AVRDEC and former MRDEC employees are currently represented as stated in the Federal Register, June 27, 1997, Volume 62, Number 124, at page 34881, section IIF. (The term MRDEC is replaced with the term AMCOM RDEC.) Currently, no union represents AMCOM RDEC employees at the Fort Eustis and Langley, Virginia, geographic locations.

D. Performance-Based Actions

Former AVRDEC and former MRDEC employees are currently covered by the provisions in the Federal Register, June 27, 1997, Volume 62, Number 124, at pages 34885 and 34886 for this topic.

E. Calculation of Performance Pay Pool Funds

The AMCOM RDEC Management of Operations and Business Office, in consultation with the union(s) representing AMCOM employees covered by this demonstration project, will calculate the total performance pay pool funds and allocate them to pay pools or teams as appropriate. This allocation, approved by the Executive Director, will be achieved early in the annual performance appraisal cycle. These provisions replace the last paragraph of section IIIB (Performance Pay Pool) in the Federal Register, June 27, 1997, Volume 62, Number 124, at page 34887.

F. Competitive Areas

All positions included in the demonstration project at a specific geographic location will be considered a separate competitive area (exception: positions at Fort Eustis and Hampton (NASA-Langley), Virginia will be combined into one competitive area).

[FR Doc. 00-22319 Filed 8-30-00; 8:45 am]

BILLING CODE 6325-01-P